FEDERAL COMMUNICATIONS COMMISSION

[FR ID 236764]

Open Commission Meeting Wednesday, August 07, 2024

July 31, 2024.

The Federal Communications Commission will hold an Open Meeting on the subjects listed below on Wednesday, August 07, 2024, which is scheduled to commence at 10:30 a.m. in the Commission Meeting Room of the Federal Communications Commission, 45 L Street NE, Washington, DC.

While attendance at the Open Meeting is available to the public, the FCC headquarters building is not open access and all guests must check in with and be screened by FCC security at the main entrance on L Street. Attendees at the Open Meeting will not be required to have an appointment but must otherwise comply with protocols outlined at: www.fcc.gov/visit. Open Meetings are streamed live at: www.fcc.gov/live and on the FCC's YouTube channel.

Item No. | Bureau | Subject
1 | Consumer & Governmental Affairs | Title: Wireless Emergency Alerts (PS Docket No. 15-91); Amendments to Part 11 of the Commission's Rules Regarding the Emergency Alert System (PS Docket No. 15-94).
|  | Summary: The Commission will consider a Report and Order to establish a Missing and Endangered Persons event code that will provide law enforcement, EAS Participants, and WEA providers with a means to quickly disseminate information pertaining to missing and endangered persons cases.
2 | Consumer & Governmental Affairs | Title: Protecting Consumers from Unwanted Artificial Intelligence Robocalls (CG Docket No. 23-362).
|  | Summary: The Commission will consider a Notice of Proposed Rulemaking that would propose steps to protect consumers from the abuse of AI in robocalls and robotexts alongside actions that clear the path for positive uses of AI, including its use to improve access to the telephone network for people with disabilities.
3 | Wireline Competition | Title: Improving the Effectiveness of the Robocall Mitigation Database (WC Docket No. 24-213); Amendment of Part 1 of the Commission's Rules, Concerning Practice and Procedure, Amendment of CORES Registration System (MD Docket No. 10-234).
|  | Summary: The Commission will consider a Notice of Proposed Rulemaking that would propose and seek comment on procedural measures to promote improved diligence when providers submit required information to the Robocall Mitigation Database, technical validation solutions to identify data discrepancies in filings, and accountability measures to ensure and improve the overall quality of submissions in the Robocall Mitigation Database.
4 | Media | Title: Restricted Adjudicatory Matter.
|  | Summary: The Commission will consider a restricted adjudicatory matter from the Media Bureau.
5 | Enforcement | Title: Enforcement Bureau Action.
|  | Summary: The Commission will consider an enforcement action.

* * * * *

The meeting will be webcast at: www.fcc.gov/live. Open captioning will be provided as well as a text only version on the FCC website. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530.

Press Access—Members of the news media are welcome to attend the meeting and will be provided reserved seating on a first-come, first-served basis. Following the meeting, the Chairwoman may hold a news conference in which she will take questions from credentialed members of the press in attendance. Also, senior policy and legal staff will be made available to the press in attendance for questions related to the items on the meeting agenda. Commissioners may also choose to hold press conferences. Press may also direct questions to the Office of Media Relations (OMR): MediaRelations@fcc.gov. Questions about credentialing should be directed to OMR.

Additional information concerning this meeting may be obtained from the Office of Media Relations, (202) 418-0500. Audio/Video coverage of the meeting will be broadcast live with open captioning over the internet from the FCC Live web page at www.fcc.gov/live.

Federal Communications Commission.
Katura Jackson,
Federal Register Liaison Officer.

[FR Doc. 2024-17344 Filed 8-5-24; 8:45 am]

BILLING CODE 6712-01-P